DEPARTMENT OF HEALTH AND HUMAN SERVICES

Centers for Disease Control and Prevention

National Task Force on Fetal Alcohol Syndrome and Fetal Alcohol Effect: Meeting

In accordance with section 10(a)(2) of the Federal Advisory Committee Act (Pub. L. 92-463), the Centers for Disease Control and Prevention (CDC) announces the following federal advisory committee meeting:

Name: National Task Force on Fetal Alcohol Syndrome and Fetal Alcohol Effect (NTFFASFAE).

Times and Dates: 8:30 a.m.-4:30 p.m., February 16, 2006. 8:30 a.m.-1 p.m., February 17, 2006.

Place: Embassy Suites Hotel Buckhead, 3285 Peachtree Road, NE., Atlanta, Georgia 30305, telephone 404/261-7733, fax 404/262-0522.

Status: Open to the public, limited only by the space available. The meeting room accommodates approximately 65 people.

Purpose: The Secretary is authorized by the Public Health Service Act, section 399G (42 U.S.C. Section 280f, as added by Pub. L. 105-392), to establish a NTFFASFAE to: (1) Foster coordination among all governmental agencies, academic bodies and community groups that conduct or support Fetal Alcohol Syndrome (FAS) and Fetal Alcohol Effect (FAE) research, programs and surveillance; and (2) to otherwise meet the general needs of populations actually or potentially impacted by FAS and FAE.

Matters to be Discussed: Agenda items include: (1) Discussion of the Task Force's Post-Exposure working group activities; (2) presentations regarding prevention initiatives from other relevant health topics such as tobacco use and HIV; (3) presentation and discussion regarding evidence-based review of FAS prevention strategies; (4) Task Force next steps; (5) updates from the Interagency Coordinating Committee on FAS, CDC, and other federal agencies, and liaison members; (6) and scheduling of the next meeting.

Agenda items are subject to change as priorities dictate.

For Further Information Contact: Mary Kate Weber, M.P.H., Executive Secretary, National Center on Birth Defects and Developmental Disabilities, CDC, 1600 Clifton Road, NE., (E-86), Atlanta, Georgia 30333, telephone 404/498-3926, fax 404/498-3550.

The Director, Management Analysis and Services Office, has been delegated the authority to sign Federal Register notices pertaining to announcements of meetings and other committee management activities for both the CDC and Agency for Toxic Substances and Disease Registry.

Dated: January 10, 2006.
Alvin Hall,
Director, Management Analysis and Services Office, Centers for Disease Control and Prevention (CDC).

[FR Doc. E6-543 Filed 1-18-06; 8:45 am]

BILLING CODE 4163-18-P